DEPARTMENT OF COMMERCE

International Trade Administration

C-533-941]

Certain Freight Rail Couplers and Parts Thereof From India: Postponement of Preliminary Determination in the Countervailing Duty Investigation

AGENCY: Enforcement and Compliance, International Trade Administration, Department of Commerce.

DATES: Applicable September 30, 2025.

FOR FURTHER INFORMATION CONTACT: Benjamin Blythe or Joshua Jacobson, Office IV, AD/CVD Operations, Enforcement and Compliance, International Trade Administration, U.S. Department of Commerce, 1401 Constitution Avenue NW, Washington, DC 20230, telephone: (202) 482-3457 and (202) 482-0266, respectively.

SUPPLEMENTARY INFORMATION:

Background

On August 12, 2025, the U.S. Department of Commerce (Commerce) initiated a countervailing duty (CVD) investigation of imports of certain freight rail couplers and parts thereof (freight rail couplers) from India.¹ Currently, the preliminary determination is due no later than October 16, 2025.

¹ See Certain Freight Rail Couplers and Parts Thereof From India: Initiation of Countervailing Duty Investigation, 90 FR 40055 (August 18, 2025).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination in a CVD investigation until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On September 22, 2025, the petitioner ² timely requested that Commerce postpone the preliminary CVD determination.³ The petitioner stated that it requests postponement so that Commerce can fully analyze the forthcoming questionnaire responses of the mandatory respondents and issue supplemental questionnaires, as necessary.⁴

² The petitioner is the Coalition of Freight Rail Coupler Producers.

³ See Petitioner's Letter, “Request to Postpone Preliminary Determination,” dated September 22, 2025.

⁴ Id.

In accordance with 19 CFR 351.205(e), the petitioner submitted its request for postponement of the preliminary determination in this investigation 25 days or more before the scheduled date of the preliminary determination and stated the reasons for its request. Commerce finds no compelling reason to deny the request. Therefore, in accordance with section 703(c)(1)(A) of the Act, Commerce is postponing the deadline for the preliminary determination in the investigation to no later than 130 days after the date on which this investigation was initiated, i.e., December 22, 2025.⁵ Pursuant to section 705(a)(1) of the Act and 19 CFR 351.210(b)(1), the deadline for the final determination of this investigation will continue to be 75 days after the date of the preliminary determination.

⁵ Postponing the preliminary determination to 130 days after initiation of the investigations would place the deadline on Saturday, December 20, 2025. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: September 25, 2025.
Christopher Abbott,
Deputy Assistant Secretary for Policy and Negotiations, performing the non-exclusive functions and duties of the Assistant Secretary for Enforcement and Compliance.

[FR Doc. 2025-19028 Filed 9-29-25; 8:45 am]

BILLING CODE 3510-DS-P